DEPARTMENT OF TRANSPORTATION

National Highway Traffic Safety Administration

[Docket No. NHTSA 2002-15644 Notice 2]

Freightliner LLC; Grant of Application for Decision for Determination of Inconsequential Non-Compliance

This notice grants the application by Freightliner LLC (Freightliner) on behalf of Thomas Built Buses, Inc. (Thomas) of High Point, North Carolina, to be exempted from the notification and remedy requirements of 49 U.S.C. 30118 and 30120 for a noncompliance with 49 CFR 571.205, Federal Motor Vehicle Safety Standard (FMVSS) No. 205, “Glazing Materials.” Freightliner has filed an appropriate report pursuant to 49 CFR Part 573, “Defect and Noncompliance Responsibility and Reports.” Pursuant to 49 CFR Part 556, “Exemption for Inconsequential Defect or Noncompliance,” Freightliner has also applied to be exempted from the notification and remedy requirements of 49 U.S.C. Chapter 301, “Motor Vehicle Safety.” The basis of the grant is that the noncompliance is inconsequential to motor vehicle safety.

Notice of receipt of the application was published August 19, 2003, (68 FR 49841) affording an opportunity for comment. The comment closing date was September 18, 2003. No comments were received.

From September 22, 2002 to February 24, 2003, Freightliner manufactured 700 Thomas Built Conventional, MPV-EF and HDX buses with driver side windows that do not meet the labeling requirements of paragraph S6 of FMVSS No. 205. The driver side windows were not marked with the “DOT” symbol, manufacturer's number and the AS 2 code mark.

FMVSS No. 205, paragraph S6, “Certification and marking,” requires that each piece of glazing material shall be marked in accordance with Section 6 of the American National Standard “Safety Code for Safety Glazing Materials for Glazing Materials for Glazing in Motor Vehicles Operating on Land Highways' Z-26.1-1977, January 26, 1977, as supplemented by Z26.1a, July 3, 1980 (ANS Z26). This specifies all safety glazing materials for use in accordance with this code shall be legibly and permanently marked in letters and numerals at least 0.070 inch (1.78 mm) in height, with the words “American National Standard” or the characters “AS” and, in addition, with a model number that will identify the type of construction of the glazing material. The glazing materials shall also be marked with the manufacturer's distinctive designation or trademark. In addition, FMVSS No. 205, paragraph S6.2 requires that each piece of glazing material be marked with the symbol “DOT.” Freightliner stated that the noncompliance consists of the driver side windows not being marked with the “DOT” symbol, manufacturer's number and the AS 2 code mark.

According to Freightliner, the manufacturer of the window, Double Eagle Window MFG, LLC, notified Freightliner on April 15, 2003 of the labeling noncompliance. Freightliner submitted a compliance test report indicating that the tempered glass parts in question were in full compliance with 49 CFR 571.205 except for labeling.

NHTSA has reviewed Freightliner's application and, for the reasons discussed in this paragraph, concludes that the noncompliance of the Freightliner driver side windows is inconsequential to motor vehicle safety. Freightliner has provided documentation indicating that the driver side windows do comply with all other safety performance requirements of the standard except labeling requirements. Consequently, the noncompliance would not affect the purposes of FMVSS No. 205, which include reducing injuries from impacts to glazing surfaces, ensuring driver visibility, and minimizing the possibility of occupants being thrown through the vehicle windows in collisions. Furthermore, it is unlikely that the labeling would result in inadvertent replacement of windows with the wrong glazing since all buses have AS 2 glazing in the driver side window (which is necessary for driver visibility). In addition, the affected vehicles are large buses that are typically operated by professional drivers, and maintenance and repairs are performed by experienced mechanics.

In consideration of the foregoing, NHTSA has decided that the applicant has met its burden of persuasion that the noncompliance it describes is inconsequential to motor vehicle safety.

Accordingly, the application is granted, and the applicant is exempted from providing the notification of the noncompliance that is required by 49 U.S.C. 30118, and from remedying the noncompliance, as required by 49 U.S.C. 30120.

The applicant is hereby informed that all products manufactured on and after the date it determined the existence of this noncompliance must fully comply with the requirements of FMVSS No. 205.

Authority: 49 U.S.C. 30118(b), 30120(h), delegations of authority at 49 CFR 1.50 and 501.8.

Issued on: November 18, 2003.
Stephen R. Kratzke,
Associate Administrator for Rulemaking.

[FR Doc. 03-29200 Filed 11-21-03; 8:45 am]

BILLING CODE 4910-59-P